DEPARTMENT OF JUSTICE

Notice of Lodging of Proposed Consent Decree Under the Comprehensive Environmental Response, Compensation, and Liability Act

On April 12, 2021, the Department of Justice lodged a proposed Consent Decree with the United States District Court for the Western District of Louisiana in the lawsuit entitled United States of America v. Axiall Corp., CITGO Petroleum Corporation, Bridgestone Americas Tire Operations, LLC, Bridgestone Americas, Inc., Firestone Polymers, LLC, Occidental Chemical Corporation, OXY USA Inc., PPG Industries, Inc. and Westlake Polymers LLC, Civil Action No. 2:21-cv-00970-JDC-KK.

The Consent Decree resolves the claims of the United States against the Defendants for response costs incurred by the United States for response actions to investigate and address contamination within the Calcasieu Estuary Site (Site) in Louisiana. The United States' Complaint seeks to recover its response costs incurred in connection with the Site pursuant to Section 107(a) of the Comprehensive Environmental Response, Compensation, and Liability Act, 42 U.S.C. 9607(a). The Consent Decree provides for payment by the Defendants of $5.5 million in reimbursement of the United States' past response costs.

The publication of this notice opens a period for public comment on the proposed Consent Decree. Comments should be addressed to the Assistant Attorney General, Environment and Natural Resources Division, and should refer to United States of America v. Axiall Corp., et al., D.J. Ref. No. 90-11-2-1284/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $10.25 (25 cents per page reproduction cost) payable to the United States Treasury.

Kenneth G. Long,
Acting Assistant Section Chief, Environmental Enforcement Section, Environment and Natural Resources Division.

[FR Doc. 2021-07880 Filed 4-15-21; 8:45 am]

BILLING CODE 4410-15-P